ENVIRONMENTAL PROTECTION AGENCY

[FRL-7926-6]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

EPA ICR No. 1189.15; Identification Listing and Rulemaking Petitions (Final Rule for Hazardous Waste Listing for Organic Dyes and/or Pigments Production Wastes); in 40 CFR 261.32; was approved 06/02/2005; OMB Number 2050-0053; expires 01/31/2008.

EPA ICR No. 1139.07; TSCA Section 4 Test, Consent Orders, Test Rule Exemptions, and Voluntary Data Submission; in 40 CFR 790; was approved 06/02/2005; OMB Number 2070-0033; expires 06/30/2008.

EPA ICR No. 1684.08; In-Use Testing of On-Road Heavy-Duty Diesel Engines and Vehicles (Final Rule); in 40 CFR part 90, subpart B; 40 CFR part 1048, subpart C; 40 CFR part 1051, subpart C; was approved 06/02/2005; OMB Number 2060-0287; expires 03/31/2008.

EPA ICR No. 0801.15; Requirements for Generators, Transporters, and Waste Management Facilities under the RCRA Hazardous Waste Manifest System (Final Rule); in 40 CFR 262.20-262.23; 40 CFR 262.34; 40 CFR 262.42; 40 CFR 262.44; 40 CFR 262.54; 40 CFR 262.60; 40 CFR 263.20-263.22; 40 CFR 263.30; 40 CFR 264.71-264.72; 40 CFR 264.74; 40 CFR 264.76; 40 CFR 264.77; 40 CFR 265.71-265.72; 40 CFR 265.74; 40 CFR 265.76; 40 CFR 265.77; was approved 05/20/2005; OMB Number 2050-0039; expires 05/31/2008.

EPA ICR No. 1807.03; NESHAP for Pesticide Active Ingredient Production (Renewal); in 40 CFR part 63, subpart MMM; was approved by OMB 6/13/2005; OMB Number 2060-0370; expires 06/30/2008.

EPA ICR No. 1639.04; National Pollutant Discharge Elimination System Great Lakes Water Quality Guidance; OMB Number 2040-0180; on 05/26/2005 OMB extended the expiration date to 08/31/2005.

EPA ICR No. 1432.22; Recordkeeping and Periodic Reporting of the Production, Import, Export, Recycling, Destruction, Transhipment and Feedstock Use of Ozone-Depleting Substances (Proposed Rule) OMB Number 2060-0170; on 05/24/2005 OMB extended the expiration date to 08/31/2005.

EPA ICR No. 2132.01; CAMEO Software Usability Evaluation Survey; was withdrawn on 05/12/2005.

EPA ICR No. 2164.01; Emission Guidelines for Existing Other Solid Waste Incineration (OWSI) Units (Proposed Rule); in 40 CFR part 60, subpart FFFF; comment filed on 06/13/2005.

EPA ICR No. 2163.01; NSPS: Other Solid Waste Incineration (OWSI) Units; in 40 CFR part 60, subpart EEEE (Proposed Rule); comment filed on 06/13/2005.

Dated: June 16, 2005.
Oscar Morales,
Director, Collection Strategies Division.

[FR Doc. 05-12450 Filed 6-22-05; 8:45 am]

BILLING CODE 6560-50-P